DEPARTMENT OF DEFENSE

Office of the Secretary

[Transmittal Nos. 12-55]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 12-55 with attached transmittal, and policy justification.

Dated: November 14, 2012.
Aaron Siegel,
Alternate OSD Federal Register Liaison Officer, Department of Defense.

Transmittal No. 12-55

Notice of Proposed Issuance of Letter of Offer Pursuant to Section 36(b)(1) of the Arms Export Control Act, as amended

(i) Prospective Purchaser: Kingdom of Saudi Arabia

(ii) Total Estimated Value:

Major Defense Equipment * | $3.6 billion
Other | $3.1 billion
Total | $6.7 billion

(iii) Description and Quantity or Quantities of Articles or Services under Consideration for Purchase: 20 C-130J-30 Aircraft, 5 KC-130J Air Refueling Aircraft, 120 Rolls Royce AE2100D3 Engines (100 installed and 20 spares), 25 Link-16 Multifunctional Information Distribution Systems, support equipment, spare and repair parts, personnel training and training equipment, publications and technical data, U.S. Government and contractor technical assistance, and other related logistics support.

(iv) Military Department: USAF (SAQ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 8 November 2012

* as defined in Section 47(6) of the Arms Export Control Act.

POLICY JUSTIFICATION

Saudi Arabia—C-130J-30 and KC-130J Aircraft

The Kingdom of Saudi Arabia (KSA) has requested a possible sale of 20 C-130J-30 Aircraft, 5 KC-130J Air Refueling Aircraft, 120 Rolls Royce AE2100D3 Engines (100 installed and 20 spares), 25 Link-16 Multifunctional Information Distribution Systems, support equipment, spare and repair parts, personnel training and training equipment, publications and technical data, U.S. Government and contractor technical assistance, and other related logistics support. The total estimated cost is $6.7 billion.

This proposed sale of C-130J-30 and KC-130J assets will contribute to the foreign policy and national security of the United States by helping to improve the security of a friendly country that has been, and continues to be, an important force for political stability and economic progress in the Middle East.

Saudi Arabia needs these aircraft to sustain its aging fleet, which faces increasing obsolescence. The proposed sale of C-130J and KC-130J aircraft will provide a modern configuration, improve reliability and enhance the Royal Saudi Air Force's ability to effectively field, support, and employ these aircraft.

The proposed sale of these aircraft and support will not alter the basic military balance in the region.

Implementation of this sale will require the assignment of U.S. Government and contractor representatives to the Kingdom of Saudi Arabia for delivery, system checkout, and logistics support for an undetermined period of time.

The prime contractors will be Lockheed-Martin in Bethesda Maryland; General Electric Aviation Systems in Sterling Virginia; and Rolls Royce Corporation in Indianapolis, Indiana. There are no known offset agreements proposed in connection with this potential sale.

There will be no adverse impact on U.S. defense readiness as a result of this proposed sale.

Transmittal No. 12-55

Notice of Proposed Issuance of Letter of Offer Pursuant to Section 36(b)(1) of the Arms Export Control Act

Annex Item No. vii

(vii) Sensitivity of Technology:

1. VHF Airborne Communications System (AN/ARC-222): This radio operates in the Very High Frequency (VHF) FM and AM spectrum. Hardware, technical data and documentation are Unclassified.

2. UHF Airborne Communications System (AN/ARC-164): This Ultra High Frequency (UHF) radio offers Have Quick II jam-resistant capability. Hardware is Unclassified. The radio can employ classified cryptographic technology.

3. Multifunctional Information Distribution System (MIDS): This is an advanced Link-16 command, control, communications, and intelligence (C3I) system incorporating high-capacity, jam-resistant, digital communication links for exchange of near real-time tactical information, including both data and voice, among air, ground, and sea elements. The MIDS terminal hardware, publications, performance specifications, operational capability, parameters, vulnerabilities to countermeasures, and software documentation are classified Confidential. The classified information to be provided consists of that which is necessary for the operation, maintenance, and repair (through intermediate level) of the data link terminal, installed systems, and related software.

4. Inertial Navigation/Global Positioning System (INS/GPS): This highly accurate inertial navigation system has embedded GPS for blended INS/GPS, free-inertial, and GPS only solutions. Classified elements include Selective Availability Anti-spoofing Module (SAASM) for decryption of precision GPS signals.

5. Electro-Optical Infrared System (Wescam MX-15 or suitable substitute): This is a gyro-stabilized, multi-field of view EO/IR system. The system provides color daylight TV and night time IR video with a laser range finder and laser pointer through use of an externally mounted turret sensor unit and internally mounted sensor control. Video imagery is displayed in the aircraft real time and may be recorded for subsequent ground analysis. Hardware is Unclassified. Technical data and documentation to be provided is Unclassified.

6. Identification Friend or Foe transponder interrogator system (AN/APX-114/119): This system responds to interrogating signals to assist in identification, location, and terrain avoidance.

7. Chaff/Flare Counter Measure Dispensing System (AN/ALE-47): The AN/ALE-47 Counter-Measures Dispensing System (CMDS) is an integrated, threat-adaptive, software-programmable dispensing system capable of dispensing chaff and flares. The threats countered by the CMDS include radar-directed anti-aircraft artillery (AAA), radar command-guided missiles, radar homing guided missiles, and infrared (IR) guided missiles. An integrated Chaff/Flare Counter Measures Dispensing System equal to or superior to this system has been released for the King Air 350ER. The highest classification for the software is CONFIDENTIAL. Hardware is UNCLASSIFIED.

8. Radar Warning Receiver (AN/ALR-56M): The AN/ALR-56M RWR is designed to detect incoming radar signals, identify and characterize those signals to a specific threat, and alert the aircrew through the C-130J Tactical Electronic Warfare System display. The system consists of external antennae mounted on the fuselage. The ALR-56M is based on a digitally-controlled, single channel receiver that scans within a specific frequency spectrum and is capable of adjusting to threat changes by modifications to the Mission Data (MD) software. The ALR-56C capability has been released to the RSAF for their F-15C/D/S aircraft. A capability equal to or greater than the ALR-56M has been released to the RSAF for their F-15SA. Hardware is CONFIDENTIAL. Software is CONFIDENTIAL.

9. Missile Approach Warning System (AN/AAR-47): The AN/AAR-47 is an aircraft passive MWS designed for detection of incoming surface-to-air and air-to-air missiles on transport and helicopter aircraft. The system detects, identifies, and displays potential threats. The AN/AAR-47 warns of missile approach by detecting radiation associated with the rocket motor and automatically initiates flare ejection. Hardware is UNCLASSIFIED. Software is SECRET. Technical data and documentation to be provided is UNCLASSIFIED.

[FR Doc. 2012-28070 Filed 11-16-12; 8:45 am]

BILLING CODE 5001-06-P